DEPARTMENT OF COMMERCE

National Oceanic and Atmospheric Administration

Marine Mammals and Endangered Species

AGENCY: National Marine Fisheries Service (NMFS), National Oceanic and Atmospheric Administration (NOAA), Commerce.

ACTION: Notice; issuance of permits.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Shasta McClenahan (Permit Nos. 23023, 23169, and 23467) and Sara Young (Permit No. 22677); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or amendment issuance date
22677 | 0648-XR039 | NMFS Pacific Islands Fisheries Science Center, 1845 WASP Blvd., Building 176, Honolulu, HI 96818 (Responsible Party: Charles Littnan) | 84 FR 57016; October 24, 2019 | December 18, 2019.
23023 | 0648-XR046 | Robert Wayne, University of California, Los Angeles, 610 Charles E. Young Drive East, Los Angeles, CA 90095 | 84 FR 61025; November 12, 2019 | December 13, 2019.
23169 | 0648-XR047 | Red Rock Films, 625 Sligo Avenue, Silver Spring, MD 20910 (Responsible Party: Brian Armstrong) | 84 FR 57403; October 25, 2019 | December 9, 2019.
23467 | 0648-XR064 | Sarah Conner, Wild Space Productions, St. Stephens House, Colston Avenue, Bristol, BS1 4ST, United Kingdom | 84 FR 61025; November 12, 2019 | December 19, 2019.

In compliance with the National Environmental Policy Act of 1969 (42 U.S.C. 4321 et seq.), a final determination has been made that the activities proposed for Permit Nos. 23023, 23169, and 23467 are categorically excluded from the requirement to prepare an environmental assessment or environmental impact statement. For Permit No. 22677, NMFS has determined that the activities proposed are consistent with the Preferred Alternative in the Final Hawaiian Monk Seal Recovery Actions Programmatic Environmental Impact Statement (NMFS 2014), and that issuance of the permit would not have a significant adverse impact on the human environment.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: January 8, 2020.
Julia Marie Harrison,
Chief, Permits and Conservation Division, Office of Protected Resources, National Marine Fisheries Service.

[FR Doc. 2020-00316 Filed 1-10-20; 8:45 am]

BILLING CODE 3510-22-P